DEPARTMENT OF HEALTH AND HUMAN SERVICES

Office of the Secretary

[Document Identifier: OS-4040-0005; 30-day notice]

Grants.gov Program Management Office Agency Information Collection Activities: Proposed Collection; Comment Request

AGENCY: Office of the Secretary, Grants.gov Program Management Office, HHS.

Notice of Proposed Requirement To Establish Government-Wide Standard Data Elements for Use By All Federal Grant Making Agencies—SF-424 Individual

In compliance with the requirement of the Paperwork Reduction Act of 1995, the Grants.gov Program Management Office, one of the 26 E-Government initiatives, managed by the Department of Health and Human Services is publishing the following summary of proposed collection for public comment. Interested individuals are invited to send comments regarding any aspect of this collection of information including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular.

Title of Information Collection: SF-424 Individual.

Form/OMB No.: OS-4040-0005.

Use: On September 1, 2005, the Grants.gov Program Management Office, one of the 26 E-Government initiatives, managed by HHS, published the proposed SF-424 Application for Federal Assistance, Individual (SF-424 I) collection for public comment in the Federal Register (70 FR 169). Interested individuals were invited to send comments regarding any aspect of this collection of information. No comments were received.

The SF-424 (I) is the government-wide data set and application cover page for use by Federal grant-making agencies that award grants to individuals. The SF-424 (I) is currently available for use as part of the electronic application process of Grants.gov, which was deployed in October 2003 and is part of the implementation of the Federal Financial Assistance Management Improvement Act of 1999 (Pub. L. 106-107). The standard data set replaces numerous agency data sets and reduces the administrative burden placed on the grants community. Federal agencies are not required to collect all of the information included in the proposed data set. The agency will identify the data that must be provided by applicants through instructions that will accompany the application package.

The Grants.gov office has revised the application cover page to indicate that SSN is optional and adding the following statement, “Disclosure of SSN is voluntary. Please see the application package instructions for the agency's authority and routine uses of the data”. Grants.gov, in consultation with other agencies, are investigating options for a unique identifier other than SSN. Grants.gov plans to address this condition through its newly formed Agency User Group.

The estimate of the total burden of the collection information has been updated based on the Paperwork Reduction Act Worksheets (OMB 83-C) received from the agencies. Currently, five agencies plan to use the SF-424 (I) instead of the SF-424 for eligible grant programs. Collectively, the agencies plan to receive 6,949 applications annually and estimate that it takes applicants 25 minutes on average to complete each application. Cumulatively, these organizations report the total burden to applicants to be 2,863 hours.

Frequency: Recordkeeping, Reporting, on occasion.

Affected: Individuals.

Total Annual Respondents: 5,827.

Total Annual Responses: 6,949.

Average Burden Per Response: 25 minutes.

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 30 days of this notice directly to the Desk Officer at the address below:

OMB Desk Officer: Katherine Astrich, OMB Human Resources and Housing Branch, Attention: (OMB #0990-0005), New Executive Office Building, Room 10235, Washington, DC 20503.

Dated: November 16, 2005.
Robert E. Polson,
Office of the Secretary, Paperwork Reduction Act Reports Clearance Officer.

[FR Doc. E5-6564 Filed 11-25-05; 8:45 am]

BILLING CODE 4150-24-P